NUCLEAR REGULATORY COMMISSION

[Docket No. 72-20]

Department of Energy; Three Mile Island 2 Independent Spent Fuel Storage Installation; Issuance of Environmental Assessment and Finding of No Significant Impact Regarding an Amendment

AGENCY: Nuclear Regulatory Commission.

ACTION: Environmental assessment.

FOR FURTHER INFORMATION CONTACT: Joseph M. Sebrosky, Senior Project Manager, Spent Fuel Project Office, Office of Nuclear Material Safety and Safeguards, U.S. Nuclear Regulatory Commission, Washington, DC 20555. Telephone: (301) 415-1132; fax number: (301) 425-8555; e-mail: jms3@nrc.gov.

SUPPLEMENTARY INFORMATION: The U.S. Nuclear Regulatory Commission (NRC or the Commission) is considering issuance of an amendment to Special Nuclear Materials License No. 2508 that would revise the technical specification corrective actions if the 5 year leak test of the dry shielded canisters fails. The Department of Energy (DOE) is currently storing spent nuclear fuel at the Three Mile Island 2 (TMI-2) independent spent fuel storage installation (ISFSI) located in Butte County, Idaho.

Environmental Assessment (EA)

Identification of Proposed Action: By letter dated January 31, 2005, as supplemented, DOE submitted a request to the NRC to amend the license (SNM-2508) to revise the technical specification corrective actions if the 5 year leak test on the dry shielded canisters (DSC) fails.

The core debris from the TMI-2 reactor is stored in the ISFSI. The DSCs are vented through high efficiency particulate air (HEPA) filters to provide a diffusion path for hydrogen from the TMI-2 core debris. The interface between each vent housing and its DSC has dual metallic seals applied between polished surfaces of the DSC and the vent housings. The vent housing seals are subject to a limiting condition for operation (LCO), which specifies a maximum allowable leak rate. Verification of the LCO is performed by a surveillance performed on a 5 year period. If the leak test fails, the current technical specifications require reseating or replacing the seals and performing another leak check. If the seal integrity cannot be restored, then by current technical specifications the affected DSC must be removed from its horizontal storage module (HSM). The proposed technical specifications would allow replacement of the metallic seals with elastomeric seals that are less sensitive to surface imperfections without movement of the DSC. In addition, if the leak check fails after replacement of the seals, the proposed technical specification would no longer require removal of the DSC from its HSM. Instead, the proposed technical specifications would require a monthly contamination survey at the affected DSC-vent housing interface and the submission of a report to the NRC describing the condition, analysis, and corrective actions being taken.

The proposed action before the NRC is whether to approve the amendment.

Need for the Proposed Action: The proposed action would allow DOE to take corrective actions in-situ without movement of the DSC. There would be less cost involved and mitigation in place would eliminate unnecessary worker radiation exposure and reduce operational risk associated with moving the DSC.

Environmental Impacts of the Proposed Action: The staff has determined that the proposed action would not endanger life or property. The DSC vent housing seals are intended to ensure that air flowing out of the DSC is routed through HEPA grade filters for confinement of radioactive particulate material. In this configuration (vented, without a source of pressure to force material through a restriction), a compressed vent housing seal does not represent a viable pathway for the uncontrolled release of radioactive materials. The proposed license amendment request includes an additional required action to perform surveys for radiological contamination at any adversely affected DSC vent housing. Therefore, there is no significant change in the type or significant increase in the amounts of any effluents that may be released offsite.

There would be a reduction with regard to individual or cumulative occupational radiation exposures because of the proposed action. The current technical specification requires removal of the DSC to an alternate facility and maintenance of the DSC. The proposed action involves attempting to make repairs to the DSC vent housing seals in-situ. The DSC is stored in a well-shielded system (the reinforced concrete HSM). Attempting repairs while the DSC is inside the HSM in accordance with the proposed technical specifications would result in a decreased radiation exposure to workers. Therefore, there are no significant radiological environmental impacts associated with the proposed action.

The amendment does not affect non-radiological plant effluents or any other aspects of the environment. Therefore, there are no significant non-radiological impacts associated with the proposed action.

Accordingly, the Commission concludes that there are no significant environmental impacts associated with the proposed action.

Alternative to the Proposed Action: As an alternative to the proposed action, the staff considered denial of the amendment request (i.e., the “no-action” alternative). Approval or denial of the amendment request would result in minimal change in the environmental impacts. Therefore, the environmental impacts of the proposed action and the alternative action are similar.

Agencies and Persons Consulted: On June 8, 2005, Douglas Walker of the Idaho Department of Environmental Quality was contacted regarding the proposed action and had no concerns. The NRC staff has determined that consultation under section 7 of the Endangered Species Act is not required for this specific amendment and will not affect listed species or critical habitat. The NRC staff has also determined that the proposed action is not a type of activity having the potential to cause effects on historic properties. Therefore, no consultation is required under section 106 of the National Historic Preservation Act.

Conclusions: The staff has reviewed the amendment request submitted by DOE and has determined that revising the technical specification corrective actions if the 5 year leak test of the DSCs fails would have no significant impact on the environment.

Finding of No Significant Impact

The environmental impacts of the proposed action have been reviewed in accordance with the requirements set forth in 10 CFR part 51. Based upon the foregoing EA, the NRC finds that the proposed action of approving the amendment to the license will not significantly impact the quality of the human environment. Accordingly, the NRC has determined that an environmental impact statement for the proposed license amendment is not warranted.

The request for amendment was docketed under 10 CFR part 72, Docket 72-20. For further details with respect to this action, see the proposed license amendment dated January 31, 2005, as supplemented, by a letter dated June 9, 2005. The NRC maintains an Agencywide Documents Access Management System (ADAMS), which provides text and image files of NRC's public documents. These documents may be accessed through the NRC's Public Electronic Reading Room on the Internet at: http://www.nrc.gov/reading-rm/adams.html. Copies of the referenced documents will also be available for review at the NRC Public Document Room (PDR), located at 11555 Rockville Pike, Rockville, MD, 20852. PDR reference staff can be contacted at 1-800-397-4209, 301-415-4737 or by e-mail to pdr@nrc.gov. The PDR reproduction contractor will copy documents for a fee.

Dated in Rockville, Maryland, this 22nd of June, 2005.
For the Nuclear Regulatory Commission.
Joseph M. Sebrosky,
Senior Project Manager, Spent Fuel Project Office, Office of Nuclear Material Safety and Safeguards.

[FR Doc. E5-3340 Filed 6-27-05; 8:45 am]

BILLING CODE 7590-01-P